DEPARTMENT OF TRANSPORTATION

Federal Aviation Administration

14 CFR Part 97

[Docket No. 30473; Amdt. No. 3148]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective January 9, 2006. The compliance date for each SIAP and/or Weather Takeoff Minimums is specified in the amendatory provisions.

The incorporation by reference of certain publications listed in the regulations is approved by the Director of the Federal Register as of January 9, 2006.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd. Oklahoma City, OK 73169 (Mail Address: P.O. Box 25082 Oklahoma City, OK 73125) telephone: (405) 954-4164.

SUPPLEMENTARY INFORMATION: This amendment to Title 14 of the Code of Federal Regulations, Part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on December 30, 2005.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 16 FEB 2006

Bay Minette, AL, Bay Minette Muni, VOR RWY 8, Amdt 7

Atqasuk, AK, Atqasuk Edward Burnell Sr. Memorial, RNAV (GPS) RWY 6, Amdt 1

Atqasuk, AK, Atqasuk Edward Burnell Sr. Memorial, RNAV (GPS) RWY 24, Amdt 1

Atqasuk, AK, Atqasuk Edward Burnell Sr. Memorial, NDB RWY 6, Amdt 1

Atqasuk, AK, Atqasuk Edward Burnell Sr. Memorial, NDB RWY 24, Amdt 1

Holy Cross, AK, Holy Cross, RNAV (GPS) RWY 1, Orig

Holy Cross, AK, Holy Cross, RNAV (GPS) RWY 19, Orig

Holy Cross, AK, Holy Cross, Takeoff Minimums and Textual DPs, Amdt 1

Holy Cross, AK, Holy Cross, GPS RWY 1, Orig, CANCELLED

Holy Cross, AK, Holy Cross, GPS RWY 19, Orig, CANCELLED

Koliganek, AK, Koliganek, RNAV (GPS) RWY 9, Orig

Koliganek, AK, Koliganek, RNAV (GPS) RWY 27, Orig

Koliganek, AK, Koliganek, GPS RWY 9, Orig-B, CANCELLED

Koliganek, AK, Koliganek, GPS RWY 27, Orig-B, CANCELLED

Koliganek, AK, Koliganek, Takeoff Minimums and Textual DPs, Amdt 1

Minchumina, AK, Minchumina, RNAV (GPS) RWY 3, Orig

Minchumina, AK, Minchumina, RNAV (GPS) RWY 21, Orig

Minchumina, AK, Minchumina, NDB RWY 3, Amdt 3

Minchumina, AK, Minchumina, Takeoff Minimums and Textual DPs, Amdt 2

New Stuyahok, AK, New Stuyahok, RNAV (GPS) RWY 16, Orig

New Stuyahok, AK, New Stuyahok, RNAV (GPS) RWY 34, Orig

New Stuyahok, AK, New Stuyahok, Takeoff Minimums and Textual DPs, Orig

Nondalton, AK, Nondalton, RNAV (GPS) RWY 2, Orig

Nondalton, AK, Nondalton, Takeoff Minimums and Textual DPs, Orig

Sitka, AK, Sitka Rocky Gutierrez, LDA/DME RWY 11, Amdt 14

Sitka, AK, Sitka Rocky Gutierrez, NDB/DME-B, Amdt 1

Sitka, AK, Sitka Rocky Gutierrez, GPS RWY 11, Orig, CANCELLED

Sitka, AK, Sitka Rocky Gutierrez, Takeoff Minimums and Textual DPs, Amdt 2

St. Paul Island, AK, St. Paul Island, RNAV (GPS) RWY 18, Amdt 1

Togiak Village, AK, Togiak, RNAV (GPS) RWY 3, Orig

Togiak Village, AK, Togiak, RNAV (GPS) RWY 21, Orig

Togiak Village, AK, Togiak, NDB-B, Amdt 1

Togiak Village, AK, Togiak, NDB/DME-A, Amdt 1

Tok, AK, Tok Junction, RNAV (GPS) RWY 7, Orig

Tok, AK, Tok Junction, RNAV (GPS) RWY 25, Orig

Tok, AK, Tok Junction, Takeoff Minimums and Textual DPs, Orig

Tucson, AZ, Marana Regional, NDB RWY 12, Orig

Tucson, AZ, Marana Regional, RNAV (GPS)-E, Orig

Tucson, AZ, Marana Regional, RNAV (GPS) RWY 3, Orig

Tucson, AZ, Marana Regional, RNAV (GPS) RWY 12, Orig

Tucson, AZ, Marana Regional, RNAV (GPS) RWY 21, Orig

Tucson, AZ, Marana Regional, Takeoff Minimums and Textual DPs, Orig

Concord, CA, Buchanan Field, NDB RWY 19R, Amdt 1

Concord, CA, Buchanan Field, RNAV (GPS) RWY 19R, Orig

Los Angeles, CA, Los Angeles Intl, ILS OR LOC RWY 24L, Amdt 24

Los Angeles, CA, Los Angeles Intl, ILS OR LOC RWY 24R, Amdt 23, ILS RWY 24R (CAT II), ILS RWY 24R (CAT III)

Los Angeles, CA, Los Angeles Intl, ILS OR LOC RWY 25L, Amdt 9, ILS RWY 25L (CAT II), ILS RWY 25L (CAT III)

Los Angeles, CA, Los Angeles Intl, ILS OR LOC RWY 25R, Amdt 15

San Francisco, CA, San Francisco Intl, RNAV (GPS) Z RWY 28R, Amdt 2A

Vidalia, GA, Vidalia Regional, ILS OR LOC/NDB RWY 24, Orig

Vidalia, GA, Vidalia Regional, LOC RWY 24, Amdt 3, CANCELLED

Grinnell, IA, Grinnell Regional, RNAV (GPS) RWY 13, Orig

Grinnell, IA, Grinnell Regional, RNAV (GPS) RWY 31, Orig

Grinnell, IA, Grinnell Regional, VOR/DME RWY 31, Amdt 3

Grinnell, IA, Grinnell Regional, GPS RWY 13, Orig-A, CANCELLED

Grinnell, IA, Grinnell Regional, GPS RWY 31, Orig-A, CANCELLED

Grinnell, IA, Grinnell Regional, NDB RWY 13, Amdt 3

Grinnell, IA, Grinnell Regional, NDB RWY 31, Amdt 3

Shreveport, LA, Shreveport Downtown, RNAV (GPS) RWY 14, Orig

Shreveport, LA, Shreveport Downtown, VOR RWY 14, Amdt 15

Cape Girardeau, MO, Cape Girardeau Regional, RNAV (GPS) RWY 10, Orig

Cape Girardeau, MO, Cape Girardeau Regional, RNAV (GPS) RWY 28, Orig

Cape Girardeau, MO, Cape Girardeau Regional, NDB RWY 10, Amdt 10

Jefferson City, MO, Jefferson City Meml, ILS OR LOC RWY 30, Amdt 5

Kansas City, MO, Charles B. Wheeler Downtown, VOR RWY 19, Amdt 19

Kansas City, MO, Charles B. Wheeler Downtown, NDB RWY 19, Amdt 17

Mexico, MO, Mexico Memorial, RNAV (GPS) RWY 24, Amdt 1

Mexico, MO, Mexico Memorial, LOC/DME RWY 24, Amdt 1

St Joseph, MO, Rosecrans Memorial, RADAR 1, Amdt 1

Augusta, ME, Augusta State, RNAV (GPS)-B, Orig

Augusta, ME, Augusta State, RNAV (GPS) RWY 35, Orig

Augusta, ME, Augusta State, GPS RWY 35, Orig-A, CANCELLED

Grenada, MS, Grenada Muni, RNAV (GPS) RWY 4, Orig

Grenada, MS, Grenada Muni, RNAV (GPS) RWY 13, Orig

Grenada, MS, Grenada Muni, RNAV (GPS) RWY 22, Orig

Grenada, MS, Grenada Muni, RNAV (GPS) RWY 31, Orig

Grenada, MS, Grenada Muni, GPS RWY 4, Orig, CANCELLED

Grenada, MS, Grenada Muni, GPS RWY 13, Orig, CANCELLED

Grenada, MS, Grenada Muni, GPS RWY 22, Orig, CANCELLED

Grenada, MS, Grenada Muni, GPS RWY 31, Orig, CANCELLED

Louisville, MS, Louisville-Winston County, NDB RWY 17, Amdt 4, CANCELLED

Butte, MT, Bert Mooney, LOC/DME RWY 15, Amdt 7

Beatrice, NE, Beatrice Municipal, RNAV (GPS) RWY 17, Amdt 1

Beatrice, NE, Beatrice Municipal, RNAV (GPS) RWY 35, Amdt 1

Beatrice, NE, Beatrice Municipal, VOR RWY 17, Orig

Gothenburg, NE, Quinn Field, RNAV (GPS) RWY 3, Orig

Gothenburg, NE, Quinn Field, RNAV (GPS) RWY 21, Orig

Gothenburg, NE, Quinn Field, VOR-A, Amdt 2

Gothenburg, NE, Quinn Field, NDB-A, Orig

Gothenburg, NE, Quinn Field, NDB OR GPS RWY 32, Amdt 1B, CANCELLED

Toledo, OH, Toledo Express, RNAV (GPS) RWY 7, Amdt 1

Toledo, OH, Toledo Express, RNAV (GPS) RWY 25, Amdt 1

Toledo, OH, Toledo Express, ILS OR LOC RWY 7, Amdt 27

Toledo, OH, Toledo Express, ILS OR LOC RWY 25, Amdt 7

Boise City, OK, Boise City, NDB-A, Amdt 1A, CANCELLED

Dallas, TX, Dallas Executive, RNAV (GPS) RWY 17, Orig

Dallas, TX, Dallas Executive RNAV (GPS) RWY 31, Orig

Dallas, TX, Dallas Executive RNAV (GPS) RWY 35, Orig

Dallas, TX, Dallas Executive VOR/DME RWY 17, Amdt 1

Dallas, TX, Dallas Executive VOR RWY 31, Amdt 1

Dallas, TX, Dallas Executive NDB OR GPS RWY 35, Amdt 9, CANCELLED

Dallas-Fort Worth, TX, Dallas-Fort Worth International, RNAV (GPS) RWY 17C, Orig

Dallas-Fort Worth, TX, Dallas-Fort Worth International, RNAV (GPS) RWY 35C, Amdt 1

Del Rio, TX, Del Rio Intl, RNAV (GPS) RWY 13, Amdt 1

Del Rio, TX, Del Rio Intl, LOC RWY 13, Amdt 1

Greenville, TX, Majors, RNAV (GPS) RWY 17, Orig

Greenville, TX, Majors, RNAV (GPS) RWY 35, Orig

Greenville, TX, Majors, ILS OR LOC RWY 17, Amdt 6

Greenville, TX, Majors, LOC BC RWY 35, Amdt 1

Greenville, TX, Majors, VOR/DME RWY 17, Amdt 1

Greenville, TX, Majors, NDB RWY 17, Amdt 6

Greenville, TX, Majors, NDB RWY 35, Amdt 2

Jacksonville, TX, Cherokee County, RNAV (GPS) RWY 14, Orig

Jacksonville, TX, Cherokee County, VOR/DME RWY 14, Amdt 4

Jacksonville, TX, Cherokee County, NDB RWY 14, Amdt 5A, CANCELLED

Jacksonville, TX, Cherokee County, Takeoff Minimums and Textual DP, Orig

Wichita Falls, TX, Wichita Valley, VOR-B, Amdt 6

Ogden, UT, Ogden-Hinckley, RNAV (GPS) Z RWY 3, Orig-A

Richlands, VA, Tazewell County, RNAV (GPS) RWY 25, Orig

Richlands, VA, Tazewell County, GPS RWY 25, Orig, CANCELLED

* * * Effective 16 March 2006

Fort Worth, TX, Fort Worth Meacham Intl, ILS OR LOC RWY 16, Amdt 8

Fort Worth, TX, Fort Worth Meacham Intl, ILS OR LOC RWY 34, Amdt 2

[FR Doc. 06-94 Filed 1-6-06; 8:45 am]

BILLING CODE 4910-13-P